DEPARTMENT OF COMMERCE

Bureau of the Census

[Docket Number 031119282-3282-01]

Annual Surveys in the Manufacturing Area

AGENCY: Census Bureau, Commerce.

ACTION: Notice of determination.

SUMMARY: The Bureau of the Census (Census Bureau) is conducting the 2003 Annual Surveys in the Manufacturing Area. The 2003 Annual Surveys consist of the Current Industrial Reports surveys, the Annual Survey of Manufactures, the Survey of Industrial Research and Development, and the Survey of Plant Capacity Utilization. We have determined that annual data collected from these surveys are needed to aid the efficient performance of essential governmental functions and have significant application to the needs of the public and industry. The data derived from these surveys, most of which have been conducted for many years, are not publicly available from nongovernmental or other governmental sources.

FOR FURTHER INFORMATION CONTACT: William G. Bostic, Jr., Chief, Manufacturing and Construction Division, on (301) 763-4593.

SUPPLEMENTARY INFORMATION: The Census Bureau is authorized to conduct surveys necessary to furnish current data on the subjects covered by the major censuses authorized by Title 13, United States Code (U.S.C.), sections 61, 81, 182, 193, 224, and 225. These surveys will provide continuing and timely national statistical data on manufacturing for the period between economic censuses. The next economic censuses will be conducted for the year 2007. The data collected in these surveys will be within the general scope and nature of those inquiries covered in the economic censuses.

Current Industrial Reports

Most of the following commodity or product surveys provide data on shipments or production, stocks, unfilled orders, orders booked, consumption, and so forth. Reports will be required of all, or a sample of, establishments engaged in the production of the items covered by the following list of surveys:

Survey Title

MA313F Yarn Production

MA313K Knit Fabric Production

MA314Q Carpets and Rugs

MA315D Gloves and Mittens

MA316A Footwear Production

MA321T Lumber Production and Mill Stocks

MA325F Paint and Allied Products

MA325G Pharmaceutical Preparations, except Biologicals

MA327C Refractories

MA327E Consumer, Scientific, Technical, and Industrial Glassware

MA331A Iron and Steel Castings

MA331B Steel Mill Products

MA331E Nonferrous Castings

MA332Q Antifriction Bearings

MA333A Farm Machinery and Lawn and Garden Equipment

MA333D Construction Machinery

MA333F Mining Machinery and Mineral Processing Equipment

MA333L Internal Combustion Engines

MA333M Refrigeration, Air Conditioning, and Warm Air Equipment

MA333P Pumps and Compressors

MA334B Selected Instruments and Related Products

MA334M Consumer Electronics

MA334P Communication Equipment

MA334Q Semiconductors, Printed Circuit Boards, and Electronic Components

MA334R Computers and Office and Accounting Machines

MA334S Electromedical and Irradiation Equipment

MA335A Switchgear, Switchboard Apparatus, Relays, and Industrial Controls

MA335E Electric Housewares and Fans

MA335F Major Household Appliances

MA335H Motors and Generators

MA335J Insulated Wire and Cable

MA335K Wiring Devices and Supplies

The following list of surveys represents annual counterparts of monthly and quarterly surveys and will cover only those establishments that are not canvassed, or do not report, in the more frequent surveys. Accordingly, there will be no duplication in reporting. The content of these annual reports will be identical with that of the monthly and quarterly reports.

Survey Title

M311H Animal and Vegetable Fats and Oils (Stocks)

M311J Oilseeds, Beans, and Nuts (Primary Producers)

M311L Fats and Oils (Renderers)

M311M Animal and Vegetables Fats and Oils (Consumption and Stocks)

M311N Animal and Vegetables Fats and Oils (Production, Consumption, and Stock)

M313P Consumption on the Cotton System

M313N Cotton and Raw Linters in Public Storage

M327G Glass Containers

M331J Inventories of Steel Producing Mills

M336G Civil Aircraft and Aircraft Engines

MQ311A Flour Milling Products

MQ313D Consumption on the Woolen System and Worsted Combing

MQ313T Broadwoven Fabrics (Gray)

MQ314X Bed and Bath Furnishings

MQ315A Apparel

MQ325A Inorganic Chemicals

MQ325B Fertilizer Materials

MQ325C Industrial Gases

MQ327D Clay Construction Products

MQ333W Metalworking Machinery

MQ335C Fluorescent Lamp Ballasts

Annual Survey of Manufactures

The Annual Survey of Manufactures collects industry statistics, such as total value of shipments, employment, payroll, workers' hours, capital expenditures, cost of materials consumed, supplemental labor costs, and so forth. This survey, conducted on a sample basis, covers all manufacturing industries, including data on plants under construction but not yet in operation.

Survey of Industrial Research and Development

The Survey of Industrial Research and Development measures spending on research and development activities in private U.S. businesses. The Census Bureau collects and compiles this information in accordance with a joint project between the National Science Foundation (NSF) and the Census Bureau. The Census Bureau and the NSF publish the results in their respective publication series. Five data items in the survey provide interim statistics collected in the Census Bureau's economic censuses. These items (total company sales, total employment, total expenditures for research and development conducted within the company, federally-funded expenditures for research and development within the company, and total expenditures and federally-funded expenditures for research and development within the company by state) are collected on a mandatory basis under the authority of Title 13, U.S.C. Responses to all other data collected are voluntary.

Survey of Plant Capacity Utilization

The Survey of Plant Capacity Utilization is designed to measure the use of industrial capacity. The survey collects information on actual output and estimates of potential output in terms of value of production. These data are the basis for calculating rates of utilization of full production capability and use of production capability under national emergency conditions.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 U.S.C., chapter 45, the OMB approved the 2003 Annual Surveys under the following OMB Control Numbers: Current Industrial Reports—0607-0206, 0607-0392, 0607-0395, and 0607-0476; Annual Survey of Manufactures—0607-0449; Survey of Industrial Research and Development—3145-0027; and Survey of Plant Capacity Utilization—0607-0175. We will provide copies of each form upon written request to the Director, U.S. Census Bureau, Washington, DC 20233-0001.

Based upon the foregoing, I have directed that the Annual Surveys in the Manufacturing Area be conducted for the purpose of collecting these data.

Dated: November 24, 2003.
Charles Louis Kincannon,
Director, Bureau of the Census.

[FR Doc. 03-29654 Filed 11-26-03; 8:45 am]

BILLING CODE 3510-07-P